INTERNATIONAL TRADE COMMISSION

[Investigation No. AA1921-129 (Second Review)]

Polychloroprene Rubber from Japan

Determination

On the basis of the record ¹ developed in the subject five-year review, the United States International Trade Commission (Commission) determines, pursuant to section 751(c) of the Tariff Act of 1930 (19 U.S.C. 1675(c)) (the Act), that revocation of the antidumping finding on polychloroprene rubber from Japan would be likely to lead to continuation or recurrence of material injury to an industry in the United States within a reasonably foreseeable time.² ³

¹ The record is defined in section 207.2(f) of the Commission's Rules of Practice and Procedure (19 CFR 207.2(f)).

² Vice Chairman Okun and Commissioner Hillman dissenting.

³ Commissioner Pearson did not participate in this determination.

Background

The Commission instituted this review on July 1, 2004 (69 FR 39961) and determined on October 4, 2004 that it would conduct a full review (69 FR 61403, October 18, 2004). Notice of the scheduling of the Commission's review and of a public hearing to be held in connection therewith was given by posting copies of the notice in the Office of the Secretary, U.S. International Trade Commission, Washington, DC, and by publishing the notice in the Federal Register on December 30, 2004 (69 FR 78474). The hearing was held in Washington, DC, on May 3, 2005, and all persons who requested the opportunity were permitted to appear in person or by counsel.

The Commission transmitted its determination in this review to the Secretary of Commerce on June 27, 2005. The views of the Commission are contained in USITC Publication 3786 (June 2005), entitled Polychloroprene Rubber from Japan: Investigation No. AA1921-129 (Second Review).

Issued: July 15, 2005.
By order of the Commission.
Marilyn R. Abbott,
Secretary to the Commission.

[FR Doc. 05-14325 Filed 7-20-05; 8:45 am]

BILLING CODE 7020-02-P